POSTAL REGULATORY COMMISSION

[Docket No. CP2025-12; Order No. 9081]

Inbound EMS 2

AGENCY: Postal Regulatory Commission.

ACTION: Notice.

SUMMARY: The Commission is acknowledging a recent Postal Service filing of its intention to change prices not of general applicability to be effective January 1, 2026. This document informs the public of the filing, invites public comment, and takes other administrative steps.

DATES: Comments are due: August 18, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On August 8, 2025, the Postal Service filed notice pursuant to 39 CFR 3035.105, announcing its intention to change rates not of general applicability for Inbound Express Mail Service (EMS) 2 effective January 1, 2026.¹

¹ Notice of the United States Postal Service of Filing Changes in Rates Not of General Applicability for Inbound EMS 2, and Application for Non-Public Treatment, August 8, 2025, at 1 (Notice).

II. Contents of Filing

To support its proposed Inbound EMS 2 rates, the Postal Service filed a redacted version of the proposed new rates, a copy of the certification required under 39 CFR 3035.105(c)(2), a redacted copy of Governors' Decision No. 19-1, a redacted copy of the most recent annual EMS Pay-for-Performance (PfP) Plan for Calendar Year (CY) 2024, a redacted copy of the most recent available EMS Cooperative PfP report card (“Summary Report”) for CY 2024, and a redacted explanation of the calculation for any lost revenues for CY 2024. Notice at 3; see id. Attachments 2-7. The Postal Service states that the financial workpapers that accompany the Notice include underlying workpapers used to calculate any PfP penalties and lost revenue from CY 2024, that all PfP penalties and lost revenue are applied in the financial workpapers and deducted accordingly, and that the workpapers also include a spreadsheet listing the countries expected to participate in PfP in CY 2026, as directed by Order No. 5966.²

² Notice at 3; see Docket No. CP2021-128, Order Approving Changes in Prices Not of General Applicability for Inbound EMS 2, August 20, 2021, at 5-6 (Order No. 5966).

Additionally, the Postal Service filed unredacted copies of Governors' Decision No. 19-1, its proposed rates, service performance data and plan, calculation of any lost revenue, the list of expected PfP countries in CY 2026, and related financial information under seal. Notice at 2. The Postal Service also filed an application for non-public treatment of materials under seal. Id. Attachment 1.

III. Commission Action

The Commission establishes Docket No. CP2025-12 for consideration of matters raised by the Notice and pursuant to 39 CFR 3010.101(q)(3) appoints Samuel Robinson to serve as Public Representative in this docket. The Public Representative does not represent any individual person, entity, or particular point of view, and, when Commission attorneys are appointed, no attorney-client relationship is established.

The Commission invites comments on whether the Postal Service's filing is consistent with 39 U.S.C. 3632, 3633, and 3642 and 39 CFR part 3035. Comments are due no later than August 18, 2025. The public portions of the filing can be accessed via the Commission's website (https://www.prc.gov). Non-public portions of the Postal Service's filing can be accessed through compliance with the requirements of 39 CFR part 3011.

IV. Ordering Paragraphs

It is ordered:

1. The Commission establishes Docket No. CP2025-12 for consideration of the matters raised by the Postal Service's Notice.

2. Pursuant to 39 CFR 3010.101(q)(3), Samuel Robinson is appointed to serve as an officer of the Commission to represent the interests of the general public in this proceeding (Public Representative).

3. Comments are due no later than August 18, 2025.

4. The Secretary shall arrange for publication of this order in the Federal Register.

By the Commission.
Erica A. Barker,
Secretary.

[FR Doc. 2025-15463 Filed 8-13-25; 8:45 am]

BILLING CODE 7710-FW-P